Proclamation 10074 of September 11, 2020

Prescription Opioid and Heroin Epidemic Awareness Week, 2020

By the President of the United States of America

A Proclamation

During Prescription Opioid and Heroin Epidemic Awareness Week, we reaffirm our unwavering commitment to ending the opioid crisis in our country, and we pledge to help our friends, family, and colleagues with addiction as they work toward a drug-free life. Addiction undercuts human personal potential, damages families, and disrupts relationships. This month, and every month, we must continue to raise awareness about the dangers of opioid misuse and resolve to build a healthier and happier Nation.

Since my first day in office, my Administration has taken aggressive action to confront and dismantle the driving forces behind the opioid crisis. In October 2017, we declared the opioid crisis a public health emergency, and in 2018, we secured $6 billion in new funding to fight the opioid crisis. Most recently, I signed the Coronavirus Aid, Relief, and Economic Security (CARES) Act, which strengthened these efforts by providing millions of dollars in emergency grant funding to healthcare providers treating those with substance use disorders. Additionally, to ensure that access to addiction support services remains uninterrupted, I eased the regulatory burdens on the Drug Enforcement Administration and the Department of Health and Human Services, which are now ensuring greater access to treatment by expanding telehealth options.

To fight over prescribing, a significant contributor to the widespread opioid addiction, my Administration launched the Safer Prescribing Plan in 2018, which built on our early progress and set an ambitious goal of cutting opioid prescription fills by one-third within 3 years. This initiative is a major reason why the total amount of opioid prescriptions filled in America has dropped by 31 percent since I took office. We have also developed partnerships between the Office of National Drug Control Policy, the Truth Initiative, and the Ad Council to educate young adults about the dangers of misusing opioids. These efforts are preventing Americans from falling victim to the potent and dangerous grip of opioid addiction.

My Administration is also taking decisive action to keep dangerous drugs out of our country. Synthetic opioids are extremely deadly and generally originate outside of the United States. Our Nation's law enforcement officers are working night and day to keep this poison from crossing our borders. In 2018 alone, they seized almost 5,000 pounds of fentanyl at our border—enough to kill 1.2 billion individuals, the equivalent of every American four times over. Although we have made great progress through these actions, my Administration remains as committed as ever to using the power of Federal law and the expertise of our Nation's dedicated law enforcement officials to prevent the illegal importation and distribution of opioids, which could otherwise devastate countless American families.

To help those already struggling with addiction, my Administration is working to champion evidence-based treatments and provide recovery support resources. In 2018, I signed the Substance Use-Disorder Prevention that Promotes Opioid Recovery and Treatment (SUPPORT) for Patients and Communities Act, which uses a whole-of-government approach to better monitor prescribing, improve treatment, prevent addiction, and curb the use of illegal drugs. We have also awarded nearly $50 million in planning grants to 15 States to increase the capacity of Medicaid providers to deliver substance use disorder treatment and recovery services. And beginning in January of this year, Medicare began covering services for its beneficiaries at opioid treatment programs. Together, these efforts will help expand treatment access and provide crucial support to those who need it.

This Prescription Opioid and Heroin Epidemic Awareness Week, we redouble our efforts to defeat our Nation's opioid crisis. We can never forget the hundreds of thousands of lives lost, nor the families forever altered due to this scourge. We will always support those around us who are suffering from addiction, encourage those struggling in private to reach out for help, and celebrate those who have found a pathway from addiction to recovery. Together, we will continue to build awareness and work toward a healthier, safer society where every community, family, and individual can flourish.

NOW, THEREFORE, I, DONALD J. TRUMP, President of the United States of America, by virtue of the authority vested in me by the Constitution and the laws of the United States, do hereby proclaim September 13 through September 19, 2020, as Prescription Opioid and Heroin Epidemic Awareness Week. I call upon my fellow Americans to observe this week with activities of awareness and remembrance of the lives lost and commitments to continue the fight.

IN WITNESS WHEREOF, I have hereunto set my hand this eleventh day of September, in the year of our Lord two thousand twenty, and of the Independence of the United States of America the two hundred and forty-fifth.

[FR Doc. 2020-21116

Filed 9-22-20; 8:45 am]

Billing code 3295-F0-P